DEPARTMENT OF HOUSING AND URBAN DEVELOPMENT

[Docket No. FR-4579-FA-07]

Announcement of Funding Award—FY 2001 Lead-Based Paint Hazard Control National Center for Lead Safe Housing

AGENCY: Office of the Secretary—Office of Healthy Homes and Lead Hazard Control.

ACTION: Announcement of funding award.

SUMMARY: In accordance with section 102(a)(4)(C) of the Department of Housing and Urban Development Reform Act of 1989, this announcement notifies the public of a funding decision made by the Department to the National Center for Lead Safe Housing. This announcement contains the name and address of the awardee and the amount of the award.

FOR FURTHER INFORMATION CONTACT: Joey Zhou, Department of Housing and Urban Development, 451 Seventh Street, SW., Washington, DC, 20410, telephone (202) 755-1785, ext. 153 (this is not a toll free number). Hearing- or speech-impaired individuals may access this number by calling the Federal Information Relay Service TTY at 1-800-877-8339.

SUPPLEMENTARY INFORMATION: The Lead-Based Paint Hazard Control grant for the National Center for Lead Safe Housing was issued pursuant to Pub. L. 102-550, Title X; FY 2000 budget; House Appropriations Committee Report 2684-21.

This notice announces the award of $2,999,986.00 to the National Center for Lead Safe Housing which will be used to provide subgrants to National Public Interest Groups, and State and Local agencies to deliver Lead-Based Paint Training.

The Catalog of Federal Domestic Assistance number for this program is 14.900.

In accordance with section 102(a)(4)(C) of the Department of Housing and Urban Development Reform Act of 1989 (103 Stat. 1987, 42 U.S.C. 3545), the Department is publishing the name, address, and amount of the award as follows: National Center for Lead Safe Housing, 10227 Wincopin Circle, Suite 205, Columbia, MD 21044. Amount of Grant: $2,999,986.00.

Dated: April 3, 2001.
David E. Jacobs,
Director, Office of Healthy Homes and Lead Hazard Control.

[FR Doc. 01-8848 Filed 4-10-01; 8:45 am]

BILLING CODE 4210-01-P